DEPARTMENT OF AGRICULTURE

Submission for OMB Review; Comment Request

August 12, 2004.

The Department of Agriculture has submitted the following information collection requirement(s) to OMB for review and clearance under the Paperwork Reduction Act of 1995, Public Law 104-13. Comments regarding: (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Pamela_Beverly_ OIRA_ Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Marketing Service

Title: Generic fruit crops, Marketing Order Administration Branch.

OMB Control Number: 0581-0189.

Summary of Collection: Industries enter into marketing order program under the Agricultural Marketing Agreement Act (AMAA) of 1937, as amended by U.S.C. 601-674. The intent of the ACT is to provide the respondents the type of service they request, and to administer the marketing order programs. Marketing Order programs provide an opportunity for producers of fresh fruits, vegetables and specialty crops, in specified production areas, to work together to solve marketing problems that cannot be solved individually. Order regulations help ensure adequate supplies of high quality product and adequate returns to producers. Under the market orders, producers and handlers are nominated by their respective peers and serve as representatives on their respective committees/boards.

Need and Use of the Information: The information collected is used only by authorized committees employees and representatives of the USDA, that include AMS, Fruit and Vegetable Programs' regional and headquarters' staff.

Description of Respondents: Business or other for-profit; individuals or households; farms; Federal government; not for profit institutions.

Number of Respondents: 19,576.

Frequency of Responses: Recordkeeping; reporting; on occasion, quarterly; biennially; weekly; semi-annually; monthly; annually.

Total Burden Hours: 8,499.

Sondra Blakey,
Departmental Information Collection Clearance Officer.

[FR Doc. 04-18893 Filed 8-17-04; 8:45 am]

BILLING CODE 3410-02-P